DEPARTMENT OF JUSTICE

Notice of Lodging Proposed Consent Decree Under the Clean Water Act

On June 30, 2023 the Department of Justice lodged a proposed Consent Decree with the United States District Court for the District of Oregon in the lawsuit entitled United States and the State of Oregon by and though the Department of Environmental Quality v. City of Sandy Oregon, Civil Action No. 23-cv-968.

The proposed Consent Decree would resolve claims against the City of Sandy, Oregon for Clean Water Act (“CWA”) violations, 33 U.S.C. 1319, as well as violations of Oregon Revised Statute (“ORS”) 468.140, for failing to comply with the requirements of its National Pollution Discharge Elimination System Permits. The proposed Consent Decree provides for the City of Sandy to perform injunctive relief measures to ensure future compliance, to pay a penalty of $250,000 to the United States, to pay a penalty of $50,000 to the State of Oregon, and to perform a State Supplemental Environmental Project valued at $200,000.

The publication of this notice opens a period for public comment on the Consent Decree. Comments should be addressed to the Assistant Attorney General, Environment and Natural Resources Division, and should refer to United States, et al. v. City of Sandy, Oregon. D.J. Ref. No. 90-5-1-1-12501. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreements may be examined and downloaded at this Justice Department website: https://www.justice.gov/enrd/consent-decrees. Alternatively, a paper copy of the Settlement Agreements will be provided upon written request and payment of reproduction costs. Please mail your request and payment to: Consent Decree Library, U.S. DOJ—ENRD, P.O. Box 7611, Washington, DC 20044-7611.

For a copy of the Consent Decree, please enclose a check or money order for $24.75 (25 cents per page reproduction cost) payable to the United States Treasury.

Kathryn C. Macdonald,
Assistant Section Chief Environmental Enforcement Section Environment and Natural Resources Division.

[FR Doc. 2023-14522 Filed 7-10-23; 8:45 am]

BILLING CODE 4410-15-P